DEPARTMENT OF HEALTH AND HUMAN SERVICES

Administration for Children and Families

Proposed Information Collection Activity; Grants to States for Access and Visitation, OMB #0970-0204

AGENCY: Division of Program Innovation; Office of Child Support Enforcement; Administration for Children and Families; HHS.

ACTION: Request for public comment.

SUMMARY: The Division of Program Innovation (DPI), Office of Child Support Enforcement (OCSE), Administration for Children and Families (ACF) is requesting a 3-year extension of the Access and Visitation Survey: Annual Report (OMB #0970-0204, expiration 10/31/2021). There are no changes requested to the form.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION: Description: The grantee and/or sub-grantee submits the spreadsheet and survey yearly. Information is used by OCSE as the primary means for adhering to the statutory (Sec. 469B. [42 U.S.C. 669b]) and regulatory (45 CFR part 303) requirements for recipients of “Grants to States for Access and Visitation.”

Respondents: State Child Access and Visitation Programs and state and/or local service providers.

Annual Burden Estimates
Instrument | Total number of respondents | Annual number of responses per respondent | Average burden hours per response | Annual burden hours
Online Portal Survey by States and Jurisdictions | 54 | 1 | 16 | 864
Survey of local service grantees | 296 | 1 | 16 | 4,736

Estimated Total Annual Burden Hours: 5,600.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Sec. 469B [42 U.S.C.669b]; 45 CFR part 303.

Mary B. Jones,
ACF/OPRE Certifying Officer.

[FR Doc. 2021-01555 Filed 1-25-21; 8:45 am]

BILLING CODE 4184-41-P